DEPARTMENT OF THE INTERIOR

Bureau of Land Management

[ID-933-1430-ET; IDI-15261]

Public Land Order No. 7526; Modification of Secretarial Order Dated October 7, 1908; ID

AGENCY: Bureau of Land Management, Interior.

ACTION: Public Land Order.

SUMMARY: This order modifies a Secretarial Order insofar as it affects 201.65 acres of public lands withdrawn for the Bureau of Reclamation's Minidoka Reclamation Project. The lands are no longer needed for the purpose for which they were withdrawn and the modification is needed to permit a land tenure adjustment. This action will open the lands to exchange only.

EFFECTIVE DATE: July 26, 2002.

FOR FURTHER INFORMATION CONTACT: Jackie Simmons, BLM Idaho State Office, 1387 S. Vinnell Way, Boise, Idaho 83709, 208-373-3867.

SUPPLEMENTARY INFORMATION: By virtue of the authority vested in the Secretary of the Interior by Section 204 of the Federal Land Policy and Management Act of 1976, 43 U.S.C. 1714 (1994), it is ordered as follows:

1. The Secretarial Order dated October 7, 1908, which withdrew lands for the Bureau of Reclamation's Minidoka Reclamation Project, is hereby modified insofar as it affects the following described public lands to allow for exchange in accordance with Section 206 of the Federal Land Policy and Management Act of October 21, 1976, as amended, 43 U.S.C. 1716 (1994):

Boise Meridian

T. 9 S., R. 20 E.,

sec. 13, lots 1 to 7, inclusive;

sec. 14, lots 3 to 5, inclusive.

The areas described aggregate 201.65 acres in Lincoln County.

2. The lands described in paragraph 1 are hereby made available for exchange in accordance with Section 206 of the Federal Land Policy and Management Act of October 21, 1976, as amended, subject to valid existing rights, the provisions of existing withdrawals, other segregation of record, and the requirements of applicable law.

Dated: July 2, 2002.
Rebecca W. Watson,
Assistant Secretary—Land and Minerals Management.

[FR Doc. 02-18879 Filed 7-25-02; 8:45 am]

BILLING CODE 4310-GG-P